DEPARTMENT OF ENERGY

Federal Energy Regulatory Commission

Combined Notice of Filings #1

June 2, 2006.

Take notice that the Commission received the following electric rate filings:

Docket Numbers: ER95-362-023.

Applicants: Stand Energy Corporation.

Description: Stand Energy Corp submits First Revised Sheet No. 1 to correct the language in section 5.(a) tariff sheets.

Filed Date: May 26, 2006.

Accession Number: 20060601-0110.

Comment Date: 5 p.m. Eastern Time on Friday, June 16, 2006.

Docket Numbers: ER02-2134-004.

Applicants: Just Energy, LLC.

Description: Just Energy, LLC submits its Supplemental Triennial Market Analysis Filing.

Filed Date: May 23, 2006.

Accession Number: 20060601-0069.

Comment Date: 5 p.m. Eastern Time on Tuesday, June 13, 2006.

Docket Numbers: ER03-99-002.

Applicants: Just Energy New York, LLC.

Description: Just Energy New York, LLC submits its Supplement Filing for Triennial Filing.

Filed Date: May 23, 2006.

Accession Number: 20060601-0067.

Comment Date: 5 p.m. Eastern Time on Tuesday, June 13, 2006.

Docket Numbers: ER03-100-002.

Applicants: Just Energy Texas, LLC.

Description: Just Energy Texas, LLC submits its Supplemental Triennial Market Analysis Filing.

Filed Date: May 23, 2006.

Accession Number: 20060601-0065.

Comment Date: 5 p.m. Eastern Time on Tuesday, June 13, 2006.

Docket Numbers: ER03-563-058; EL04-102-014.

Applicants: Devon Power LLC.

Description: Devon Power LLC submits its 8th compliance report.

Filed Date: May 26, 2006.

Accession Number: 20060601-0109.

Comment Date: 5 p.m. Eastern Time on Friday, June 16, 2006.

Docket Numbers: ER06-187-003.

Applicants: Midwest Independent Transmission System Operator, Inc.

Description: Midwest ISO submits a supplement to its May 8, 2006 Compliance Filing of a Large Generator Interconnection Agreement.

Filed Date: May 26, 2006.

Accession Number: 20060601-0100.

Comment Date: 5 p.m. Eastern Time on Friday, June 16, 2006.

Docket Numbers: ER06-232-002.

Applicants: PJM Interconnection, L.L.C.

Description: PJM Interconnection LLC submits amendments to the PJM OATT and the Amended and Restated Operating Agreement of PJM.

Filed Date: May 25, 2006.

Accession Number: 20060601-0103.

Comment Date: 5 p.m. Eastern Time on Thursday, June 15, 2006.

Docket Numbers: ER06-823-002.

Applicants: Westar Energy, Inc.

Description: Westar Energy, Inc resubmits First Revised Sheet No. 4 to Rate Schedule FERC No. 233 with the City of Robinson, Kansas.

Filed Date: May 25, 2006.

Accession Number: 20060601-0203.

Comment Date: 5 p.m. Eastern Time on Thursday, June 15, 2006.

Docket Numbers: ER06-909-001.

Applicants: PNM Resources Operating Companies.

Description: Public Service Company of New Mexico and Texas-New Mexico Power Co submit corrected version of Substitute First Revised Sheet No. 98 incorporating changes described in the April 27, 2006 filing, effective May 1, 2006.

Filed Date: May 25, 2006.

Accession Number: 20060601-0204.

Comment Date: 5 p.m. Eastern Time on Thursday, June 15, 2006.

Docket Numbers: ER06-994-001.

Applicants: Western Kentucky Energy Corp.

Description: Western Kentucky Energy Corp submits an Errata to Notice of Succession.

Filed Date: May 25, 2006.

Accession Number: 20060601-0102.

Comment Date: 5 p.m. Eastern Time on Thursday, June 15, 2006.

Docket Numbers: ER06-1048-000.

Applicants: Midwest Independent Transmission System Operator, Inc.

Description: Midwest ISO submits proposed revisions to Attachment P of the Open Access Transmission and Energy Markets Tariff.

Filed Date: May 26, 2006.

Accession Number: 20060601-0085.

Comment Date: 5 p.m. Eastern Time on Friday, June 16, 2006.

Docket Numbers: ER06-1049-000.

Applicants: Appalachian Power Company.

Description: Appalachian Power Co submits a Cost-Based Formula Rate Agreement for Full Requirements Electric Service with the City of Salem, VA.

Filed Date: May 26, 2006.

Accession Number: 20060601-0083.

Comment Date: 5 p.m. Eastern Time on Friday, June 16, 2006.

Docket Numbers: ER06-1051-000.

Applicants: Midwest Independent Transmission System Operator, Inc.

Description: Midwest ISO submits an unexecuted Large Generator Interconnection Agreement among MinnDakota Wind LLC, Northern States Power Comany.

Filed Date: May 26, 2006.

Accession Number: 20060601-0086.

Comment Date: 5 p.m. Eastern Time on Friday, June 16, 2006.

Docket Numbers: ER06-1052-000.

Applicants: American Transmission Company LLC.

Description: American Transmission Co, LLC submits an executed Distribution Transmission Interconnection Agreement with Eagle River Light & Water dated April 27, 2006.

Filed Date: May 26, 2006.

Accession Number: 20060601-0117.

Comment Date: 5 p.m. Eastern Time on Friday, June 16, 2006.

Docket Numbers: ER06-1053-000.

Applicants: American Transmission Company LLC.

Description: American Transmission Co, LLC submits an executed Distribution-Transmission Interconnection Agreement with Muscoda Utilities.

Filed Date: May 26, 2006.

Accession Number: 20060601-0111.

Comment Date: 5 p.m. Eastern Time on Friday, June 16, 2006.

Docket Numbers: ER06-1054-000.

Applicants: Midwest Independent Transmission System.

Description: Midwest ISO submits proposed revisions to its OATT, FERC Electric Tariff, Third Revised Volume No.1.

Filed Date: May 30, 2006.

Accession Number: 20060601-0107.

Comment Date: 5 p.m. Eastern Time on Tuesday, June 20, 2006.

Docket Numbers: ER06-1055-000.

Applicants: Newmont Nevada Energy Investment LLC.

Description: Newmont Nevada Energy Investment LLC submits FERC Electric Tariff Original Volume No.1 under.

Filed Date: May 30, 2006.

Accession Number: 20060601-0105.

Comment Date: 5 p.m. Eastern Time on Tuesday, June 20, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-9084 Filed 6-9-06; 8:45 am]

BILLING CODE 6717-01-P